DEPARTMENT OF THE TREASURY

Office of Foreign Assets Control

Identification of Additional Entities Pursuant to Executive Order 13469

AGENCY: Office of Foreign Assets Control, Treasury.

ACTION: Notice.

SUMMARY: The Treasury Department's Office of Foreign Assets Control (“OFAC”) is publishing the names of two entities that have been identified as entities in which the Zimbabwe Mining Development Corporation, a person whose property and interests in property are blocked pursuant to Executive Order 13469 of July 25, 2008, “Blocking Property of Additional Persons Undermining Democratic Processes or Institutions in Zimbabwe,” owns, directly or indirectly, a 50 percent or greater interest. Therefore, all property and interests in property of such entities are blocked.

DATES: The identification by the Director of OFAC of the two entities named in this notice, pursuant to Executive Order 13469 of July 25, 2008, is effective December 9, 2011.

FOR FURTHER INFORMATION CONTACT: Assistant Director, Sanctions Compliance and Evaluation, Office of Foreign Assets Control, Department of the Treasury, Washington, DC 20220, Tel.: (202) 622-2490.

SUPPLEMENTARY INFORMATION:

Electronic and Facsimile Availability

This document and additional information concerning OFAC are available from OFAC's Web site (http://www.treas.gov/ofac) or via facsimile through a 24-hour fax-on-demand service, Tel.: (202) 622-0077.

Background

On July 25, 2008, the President issued Executive Order 13469 with respect to Zimbabwe pursuant to, inter alia, the International Emergency Economic Powers Act (50 U.S.C. 1701-06). In the Order, the President took additional steps with respect to the national emergency declared in Executive Order 13288 of March 6, 2003, and relied upon for additional steps taken in Executive Order 13391 of November 22, 2005, in order to address the continued political repression and the undermining of democratic processes and institutions in Zimbabwe.

Section 1 of the Order blocks, with certain exceptions, all property, and interests in property, that are in, or hereafter come within, the United States or the possession or control of United States persons for persons determined by the Director of OFAC, after consultation with the Secretary of State, to satisfy any of the criteria set forth in subparagraphs (a)(i) through (a)(viii) of Section 1.

On December 9, 2011, the Director of OFAC identified two entities in which the Zimbabwe Mining Development Corporation, an entity whose property and interests in property are blocked pursuant to Executive Order 13469, owns, directly or indirectly, a 50 percent or greater interest. Therefore, all property and interests in property of such entities are blocked.

The list of blocked entities is as follows:

Entities

• Marange Resources (Private) Limited (a.k.a. Marange Resources; a.k.a. Marange Resources Ltd; a.k.a. Block Wood Mining), MMCZ Building, 90 Mutare Road, Harare, Zimbabwe; P.O. Box 4101, Harare, Zimbabwe; [Zimbabwe].

• Mbada Diamonds (Private) Limited (a.k.a. Mbada Diamond Mining; a.k.a. Mbada Diamonds; a.k.a. Mbada; a.k.a. Condurango Investments Pvt Ltd; a.k.a. Condurango), New Office Park, Block C, Sam Levy's Village, Borrowdale, Harare, Zimbabwe; P.O. Box CY1342, Causeway, Harare, Zimbabwe; [Zimbabwe].

Dated: December 9, 2011.
Adam J. Szubin,
Director, Office of Foreign Assets Control.

[FR Doc. 2011-32321 Filed 12-15-11; 8:45 am]

BILLING CODE 4810-AL-P